SECURITIES AND EXCHANGE COMMISSION

17 CFR Part 240

Schedule 14A—Information Required in Proxy Statement

CFR Correction

In Title 17 of the Code of Federal Regulations, part 240 to end, revised as of April 1, 2005, on page 216, in § 240.14a-101, Item 10, paragraph (c) and Instruction 1 to paragraph (c), is moved to the second column before the undesignated heading Instructions.

[FR Doc. 06-55504 Filed 1-25-06; 8:45 am]

BILLING CODE 1505-01-D